DEPARTMENT OF TRANSPORTATION

Federal Aviation Administration

14 CFR Part 97

[Docket No. 30642; Amdt. No 3300]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 5, 2009. The compliance date for each SIAP, associated Takeoff Minimums, and ODP is specified in the amendatory provisions.

The incorporation by reference of certain publications listed in the regulations is approved by the Director of the Federal Register as of January 5, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule “ under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air traffic control, Airports, Incorporation by reference, and Navigation (Air).

Issued in Washington, DC on December 12, 2008.
John M. Allen,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 15 Jan 2009

Kwethluk, AK, Kwethluk, RNAV (GPS) RWY 18, Orig

Kwethluk, AK, Kwethluk, RNAV (GPS) RWY 36, Orig

Kwethluk, AK, Kwethluk, Takeoff Minimums and Obstacle DP, Orig

Troy, AL, Troy Muni, ILS OR LOC RWY 7, Amdt 8

Troy, AL, Troy Muni, NDB RWY 7, Amdt 11

Troy, AL, Troy Muni, RADAR-1, Amdt 8

Troy, AL, Troy Muni, RNAV (GPS) RWY 7, Orig

Fayetteville/Springdale/Rogers, AR, Northwest Arkansas Rgnl, ILS OR LOC/DME RWY 34, Amdt 2

Lake Havasu City, AZ, Lake Havasu City, RNAV (GPS) RWY 32, Orig

Crescent City, CA, Jack McNamara Field, GPS RWY 11, Orig, CANCELLED

Crescent City, CA, Jack McNamara Field, RNAV (GPS) RWY 11, Orig

West Palm Beach, FL, North Palm Beach County General Aviation, GPS RWY 26L, Orig, CANCELLED

West Palm Beach, FL, North Palm Beach County General Aviation, RNAV (GPS) RWY 13, Orig

West Palm Beach, FL, North Palm Beach County General Aviation, RNAV (GPS) RWY 26L, Orig

West Palm Beach, FL, North Palm Beach County General Aviation, Takeoff Minimums and Obstacle DP, Orig

Boone, IA, Boone Muni, Takeoff Minimums and Obstacle DP, Amdt 5

Charles City, IA, Northeast Iowa Rgnl, NDB RWY 12, Amdt 1

Charles City, IA, Northeast Iowa Rgnl, Takeoff Minimums and Obstacle DP, Orig

Iowa City, IA, Iowa City Muni, GPS RWY 25, Orig-B, CANCELLED

Iowa City, IA, Iowa City Muni, GPS RWY 30, Amdt 2, CANCELLED

Iowa City, IA, Iowa City Muni, RNAV (GPS) RWY 25, Orig

Iowa City, IA, Iowa City Muni, RNAV (GPS) RWY 30, Orig

Waterloo Rgnl, Waterloo, IA, ILS OR LOC RWY 12, Amdt 9

Waterloo Rgnl, Waterloo, IA, LOC BC RWY 30, Amdt 11

Kewanee, IL, Kewanee Muni, NDB OR GPS RWY 1, Amdt 6, CANCELLED

Kewanee, IL, Kewanee Muni, NDB OR GPS RWY 9, Amdt 6, CANCELLED

Kewanee, IL, Kewanee Muni, RNAV (GPS) RWY 1, Orig

Kewanee, IL, Kewanee Muni, RNAV (GPS) RWY 9, Orig

Kewanee, IL, Kewanee Muni, RNAV (GPS) RWY 19,Orig

Kewanee, IL, Kewanee Muni, RNAV (GPS) RWY 27, Orig

Kewanee, IL, Kewanee Muni, Takeoff Minimums and Obstacle DP, Orig

Quincy, IL, Quincy Rgnl-Baldwin Field, RNAV (GPS) RWY 18, Orig

Indianapolis, IN, Indianapolis Metropolitan, RNAV (GPS) RWY 15, Amdt 1

Indianapolis, IN, Indianapolis Metropolitan, RNAV (GPS) RWY 33, Amdt 1

Topeka, KS, Philip Billard Muni, Takeoff Minimums and Obstacle DP, Amdt 1

Ashland, KY, Ashland Rgnl, RNAV (GPS) RWY 10, Orig

Ashland, KY, Ashland Rgnl, RNAV (GPS) RWY 28, Orig

Ashland, KY, Ashland Rgnl, SDF RWY 10, Amdt 6B, CANCELLED

Ashland, KY, Ashland Rgnl, Takeoff Minimums and Obstacle DP, Amdt 4

Ashland, KY, Ashland Rgnl, VOR RWY 10, Amdt 11

Bowling Green, KY, Bowling Green-Warren City Rgnl, GPS RWY 21, Orig-A, CANCELLED

Bowling Green, KY, Bowling Green-Warren City Rgnl, RNAV (GPS) RWY 3, Orig

Bowling Green, KY, Bowling Green-Warren City Rgnl, RNAV (GPS) RWY 21, Orig

Bowling Green, KY, Bowling Green-Warren City Rgnl, VOR-A, Orig

Bowling Green, KY, Bowling Green-Warren City Rgnl, VOR OR GPS RWY 3, Amdt 14A, CANCELLED

Somerset, KY, Lake Cumberland Rgnl, ILS OR LOC/DME RWY 5, Orig

Somerset, KY, Lake Cumberland Rgnl, LOC RWY 5, Amdt 1, CANCELLED

Somerset, KY, Lake Cumberland Rgnl, RNAV (GPS) Y RWY 5, Amdt 3

Somerset, KY, Lake Cumberland Rgnl, RNAV (GPS) Z RWY 5, Amdt 1

Marshfield, MA, Marshfield Muni-George Harlow Field, RNAV (GPS) RWY 24, Orig

Stevensville, MD, Bay Bridge, VOR/DME RWY 29, Amdt 1, CANCELLED

Augusta, ME, Augusta State, GPS RWY 8, Orig-A, CANCELLED

Augusta, ME, Augusta State, RNAV (GPS) RWY 8, Orig

Augusta, ME, Augusta State, VOR/DME RWY 8, Amdt 12

Grayling, MI, Grayling AAF, RNAV (GPS) RWY 14, Orig

Muskegon, MI, Muskegon County, ILS OR LOC RWY 32, Amdt 18

Muskegon, MI, Muskegon County, LOC BC RWY 14, Amdt 9

Muskegon, MI, Muskegon County, RNAV (GPS) RWY 14, Amdt 1

Muskegon, MI, Muskegon County, RNAV (GPS) RWY 32, Amdt 1

Muskegon, MI, Muskegon County, Takeoff Minimums and Obstacle DP, Amdt 10

Saginaw, MI, MBS Intl, RNAV (GPS) RWY 5, Amdt 1

Saginaw, MI, MBS Intl, RNAV (GPS) RWY 14, Amdt 1

Saginaw, MI, MBS Intl, RNAV (GPS) RWY 23, Amdt 1

Saginaw, MI, MBS Intl, RNAV (GPS) RWY 32, Amdt 1

Dodge Center, MN, Dodge Center, GPS RWY 34, Amdt 2A, CANCELLED

Dodge Center, MN, Dodge Center, RNAV (GPS) RWY 16, Orig

Dodge Center, MN, Dodge Center, RNAV (GPS) RWY 34, Orig

Dodge Center, MN, Dodge Center, Takeoff Minimums and Obstacle DP, Orig

Dodge Center, MN, Dodge Center, VOR-A, Amdt 4

Grand Marais, MN, Grand Marais/Cook County, Takeoff Minimums and Obstacle DP, Orig

Minneapolis, MN, Flying Cloud, RNAV (GPS) RWY 10L, Orig

Minneapolis, MN, Flying Cloud, RNAV (GPS) RWY 28R, Amdt 1

Rochester, MN, Rochester Intl, COPTER ILS OR LOC RWY 31, Amdt 2

Rochester, MN, Rochester Intl, ILS OR LOC RWY 13, Amdt 8

Rochester, MN, Rochester Intl, ILS OR LOC RWY 31, Amdt 22

Rochester, MN, Rochester Intl, RADAR-1, Amdt 8

Rochester, MN, Rochester Intl, Takeoff Minimums and Obstacle DP, Orig

Waseca, MN, Waseca Muni, NDB RWY 15, Amdt 5

Waseca, MN, Waseca Muni, RNAV (GPS) RWY 15, Orig

Waseca, MN, Waseca Muni, Takeoff Minimums and Obstacle DP, Orig

Waseca, MN, Waseca Muni, VOR-A, Amdt 5

Columbus/W PT/Starksville, MS, Golden Triangle Rgnl, RNAV (GPS) RWY 18, Orig-A

Hattiesburg, MS, Hattiesburg Bobby L Chain Muni, Takeoff Minimums and Obstacle DP, 1

Laurel, MS, Hesler-Noble Field, VOR/DME-A, Amdt 4

Greensboro, NC, Piedmont Triad Intl, ILS OR LOC RWY 5R, Amdt 6

Greensboro, NC, Piedmont Triad Intl, ILS OR LOC RWY 23L, Amdt 9, ILS RWY 23L (CAT II)

Greensboro, NC, Piedmont Triad Intl, RNAV (GPS) RWY 5R, Amdt 2

Greensboro, NC, Piedmont Triad Intl, RNAV (GPS) RWY 23L, Amdt 2

Greensboro, NC, Piedmont Triad Intl, VOR RWY 5R, Amdt 13

Greensboro, NC, Piedmont Triad Intl, VOR/DME RWY 23L, Amdt 10

Kenansville, NC, Duplin County, Takeoff Minimums and Obstacle DP, Orig

Shelby, NC, Shelby-Cleveland County Rgnl, NDB RWY 23, Amdt 1

Shelby, NC, Shelby-Cleveland County Rgnl, RNAV (GPS) RWY 5, Amdt 1

Winston-Salem, NC, Smith Reynolds, Takeoff Minimums and Obstacle DP, Amdt 6

Lebanon, NH, Lebanon Muni, Takeoff Minimums and Obstacle DP, Amdt 2

Sussex, NJ, Sussex, VOR-A, Amdt 6

Las Vegas, NV, McCarran Intl, ILS OR LOC RWY 25R, Amdt 17

Islip, NY, Long Island Mac Arthur, ILS OR LOC RWY 6, Amdt 23

Islip, NY, Long Island Mac Arthur, ILS OR LOC RWY 24, Amdt 3

Islip, NY, Long Island Mac Arthur, NDB RWY 6, Amdt 20

Islip, NY, Long Island Mac Arthur, RNAV (GPS) RWY 6, Orig

Islip, NY, Long Island Mac Arthur, RNAV (GPS) RWY 24, Orig

Poughkeepsie, NY, Dutchess County, ILS OR LOC RWY 6, Amdt 6

Poughkeepsie, NY, Dutchess County, RNAV (GPS) RWY 6, Orig

Poughkeepsie, NY, Dutchess County, RNAV (GPS) RWY 24, Orig

Poughkeepsie, NY, Dutchess County, VOR-A, Amdt 11

Poughkeepsie, NY, Dutchess County, VOR/DME RWY 6, Amdt 6

Poughkeepsie, NY, Dutchess County, VOR/DME RWY 24, Amdt 4

Poughkeepsie, NY, Dutchess County, VOR/DME RNAV OR GPS RWY 6, Amdt 5A, CANCELLED

Rochester, NY, Greater Rochester Intl, ILS OR LOC RWY 4, ILS RWY 4 (CAT II), Amdt 19

Rochester, NY, Greater Rochester Intl, ILS OR LOC RWY 28, Amdt 30

Rochester, NY, Greater Rochester Intl, RNAV (GPS) RWY 4, Amdt 1

Rochester, NY, Greater Rochester Intl, RNAV (GPS) RWY 28, Amdt 1

Rochester, NY, Greater Rochester Intl, Takeoff Minimums and Obstacle DP, Amdt 6

Rochester, NY, Greater Rochester Intl, VOR RWY 4, Amdt 11

Rochester, NY, Greater Rochester Intl, VOR/DME RWY 4, Amdt 3

Cincinnati, OH, Cincinnati Muni Airport-Lunken Field, ILS OR LOC RWY 21L, Amdt 18

Cincinnati, OH, Cincinnati Muni Airport-Lunken Field, NDB RWY 21L, Amdt 16

Cincinnati, OH, Cincinnati Muni Airport-Lunken Field, RNAV (GPS) RWY 21L, Orig

Columbus, OH, Rickenbacker Intl, NDB RWY 5R, Amdt 1

Columbus, OH, Rickenbacker Intl, NDB RWY 23L, Amdt 1

Columbus, OH, Rickenbacker Intl, RNAV (GPS) RWY 5R, Orig

Columbus, OH, Rickenbacker Intl, RNAV (GPS) RWY 23L, Orig

Columbus, OH, Rickenbacker Intl, Takeoff Minimums and Obstacle DP, Orig

John Day, OR, Grant Co Rgnl/Ogilvie Field, GPS RWY 9, Orig-A, CANCELLED

John Day, OR, Grant Co Rgnl/Ogilvie Field, RNAV (GPS) Y RWY 9, Orig

John Day, OR, Grant Co Rgnl/Ogilvie Field, Takeoff Minimums and Obstacle DP, Amdt 1

Portland, OR, Portland Intl, Takeoff Minimums and Obstacle DP, Amdt 6

Butler, PA, Butler County/K W Scholter Fld, GPS RWY 26, Orig, CANCELLED

Butler, PA, Butler County/K W Scholter Fld, RNAV (GPS) RWY 26, Orig

Chester, SC, Chester Catawba Regional, NDB RWY 35, Amdt 1

Chester, SC, Chester Catawba Regional, Takeoff Minimums and Obstacle DP, Orig

Moncks Corner, SC, Berkeley County, NDB OR GPS RWY 5, Amdt 2A, CANCELLED

Moncks Corner, SC, Berkeley County, RNAV (GPS) RWY 5, Orig

Moncks Corner, SC, Berkeley County, RNAV (GPS) RWY 23, Orig

Moncks Corner, SC, Berkeley County, Takeoff Minimums and Obstacle DP, Orig

Belle Fourche, SD, Belle Fourche Muni, NDB OR GPS RWY 32, Orig, CANCELLED

Belle Fourche, SD, Belle Fourche Muni, RNAV (GPS) RWY 32, Orig

Belle Fourche, SD, Belle Fourche Muni, Takeoff Minimums and Obstacle DP, Amdt 2

Brookings, SD, Brookings Rgnl, Takeoff Minimums and Obstacle DP, Orig

Rockwood, TN, Rockwood Muni, RNAV (GPS) RWY 22, Orig

Arlington, TX, Arlington Muni, RNAV (GPS) RWY 34, Amdt 1

Childress, TX, Childress Muni, Takeoff Minimums and Obstacle DP, Orig

Fort Hood/Killeen, TX, Robert Gray AAF, Takeoff Minimums and Obstacle DP, Amdt 1

Mount Pleasant, TX, Mount Pleasant Rgnl, RNAV (GPS) RWY 17, Amdt 1

Mount Pleasant, TX, Mount Pleasant Rgnl, RNAV (GPS) RWY 35, Amdt 1

Mount Pleasant, TX, Mount Pleasant Rgnl, Takeoff Minimums and Obstacle DP, Orig

Spokane, WA, Spokane Intl, RNAV (GPS) RWY 7, Amdt 1

Spokane, WA, Spokane Intl, RNAV (GPS) RWY 25, Amdt 2

Eau Claire, WI, Chippewa Valley Rgnl, VOR-A, Amdt 22

Sturgeon Bay, WI, Door County Cherryland, SDF RWY 2, Amdt 8

[FR Doc. E8-30648 Filed 1-2-09; 8:45 am]

BILLING CODE 4910-13-P